DEPARTMENT OF JUSTICE

Office of Justice Programs

[OMB No. 1121-0111]

Agency Information Collection Activities: Extension of a Currently Approved Collection; Comments Requested National Crime Victimization Survey (NCVS)

ACTION: 30-day notice of information collection under review.

The Department of Justice (DOJ), Office of Justice Programs, Bureau of Justice Statistics will be submitting the following information collection request to the Office of Management and Budget (OMB) for review and approval in accordance with the Paperwork Reduction Act of 1995. The proposed information collection is published to obtain comments from the public and affected agencies. This proposed information collection was previously published in the Federal Register Volume 77, Number 58, pages 17523-17524, on March 26, 2012, allowing for a 60-day comment period.

The purpose of this notice is to allow for an additional 30 days for public comment until July 2, 2012. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this Information

(1) Type of information collection: Extension of a currently approved collection.

(2) Title of the Form/Collection: National Crime Victimization Survey (NCVS).

(3) Agency form number, if any, and the applicable component of the department sponsoring the collection: NCVS. Bureau of Justice Statistics, Office of Justice Programs, Department of Justice.

(4) Affected public who will be asked or required to respond, as well as a brief abstract. Primary: Persons 12 years or older living in NCVS sampled households located throughout the United States. The National Crime Victimization Survey (NCVS) collects, analyzes, publishes, and disseminates statistics on criminal victimization in the U.S.

(5) An estimate of the total number of respondents and the amount of time estimated for an average respondent to respond/reply: An estimate of the total number of respondents is 84,700. It will take the average interviewed respondent an estimated 23 minutes to respond, the average non-interviewed respondent an estimated 7 minutes to respond, the estimated average follow-up interview is 12 minutes, and the estimated average follow-up for a non-interview is 1 minute.

(6) An estimate of the total public burden (in hours) associated with the collection: The total respondent burden is approximately 67,657 hours.

If additional information is required contact: Jerri Murray, Department Clearance Officer, United States Department of Justice, Justice Management Division, Policy and Planning Staff, 145 N Street NE., Room 2E-508, Washington, DC 20530.

Jerri Murray,
Department Clearance Officer, PRA, United States Department of Justice.

[FR Doc. 2012-13161 Filed 5-30-12; 8:45 am]

BILLING CODE 4410-18-P